DEPARTMENT OF TRANSPORTATION

Office of the Secretary

Certificates of Public Convenience; Applications

Notice of Applications for Certificates of Public Convenience and Necessity and Foreign Air Carrier Permits Filed Under Subpart Q during the Week Ending June 30, 2000. The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1999-6385.

Date Filed: June 27, 2000.

Due Date for Answers, Conforming Applications, or Motion to Modify Scope: July 18, 2000.

Description: Motion of United Air Lines, Inc. for leave to file a Supplement to its application for a certificate of public convenience and necessity to provide scheduled foreign air transportation of persons, property and mail between the United States and the addition of the following points to the list of countries included in Appendix A of its application: Comoros; Cyprus; Dominica; French Guyana; French Polynesia; Lesotho; Macau; Maldives; Marshall Islands; Micronesia, Federated States of Mongolia; Palau; Portugal; Qatar; St. Kitts & Nevis; St. Vincent & Grenadines; Samoa; Swaziland; Turks and Caicos; for the Department's convenience, United has attached a Revised Appendix A, which includes all of these points. United is supplementing it's application to include countries with which the U.S. has signed open skies agreements since United filed its original application as well as countries which were included in competing omnibus certificate applications of other carriers.

Docket Number: OST-2000-7588.

Date Filed: June 27, 2000.

Due Date for Answers, Conforming Applications, or Motion to Modify Scope: July 18, 2000.

Description: Application of Kitty Hawk International, Inc. (“Kitty Hawk”) pursuant to 49 U.S.C. 41105 and Subpart Q, applies for authority to transfer its certificate of public convenience and necessity for interstate air transportation issued by the Department to a newly-created and wholly-owed subsidiary of Kitty Hawk to be named Kitty Hawk Air, Inc. (“Kitty Hawk Air”).

Dorothy Y. Beard,
Federal Register Liaison.

[FR Doc. 00-18131 Filed 7-17-00; 8:45 am]

BILLING CODE 4910-62-P